DEPARTMENT OF THE INTERIOR

Bureau of Land Management

[BLM_NV_FRN_MO4500179144]

Notice of Availability of the Draft Resource Management Plan Amendment and Environmental Impact Statement for the Bonanza Solar Project, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) Nevada State Office has prepared a Draft Resource Management Plan (RMP) Amendment with an associated Draft Environmental Impact Statement (EIS) to consider the effects of a right-of-way (ROW) application from Bonanza Solar, LLC for the Bonanza Solar Project and by this notice is announcing the opening of the comment period on the Draft RMP Amendment/EIS.

DATES: This notice announces the opening of a 90-day comment period for the Draft RMP Amendment/EIS beginning with the date following the Environmental Protection Agency's (EPA) publication of its Notice of Availability (NOA) in the Federal Register. The EPA usually publishes its NOAs on Fridays.

To afford the BLM the opportunity to consider comments in the Draft RMP Amendment/EIS, please ensure your comments are received prior to the close of the 90-day comment period or 15 days after the last public meeting, whichever is later. The BLM will be holding a combination of virtual and in-person public meetings. The specific date(s) and location(s) of these meetings will be announced at least 15 days in advance through the Project website.

ADDRESSES: You may submit comments related to the Bonanza Solar Project and RMP Amendment by any of the following methods:

• Project website: https://eplanning.blm.gov/eplanning-ui/project/2020905/510.

• Email: Bonanzasolar@blm.gov.

• Mail: BLM, Nevada State Office, Attn: Renewable Energy Coordination Office, 1340 Financial Boulevard, Reno, Nevada 89502.

Documents pertinent to this proposal may be examined online at https://eplanning.blm.gov/eplanning-ui/project/2020905/510 and at the Southern Nevada District Office, 4701 N Torrey Pines Drive, Las Vegas, Nevada 89130.

FOR FURTHER INFORMATION CONTACT: Katy Paiva, Project Manager, telephone (775) 861-6723; address 1340 Financial Boulevard, Reno, NV 89502; email Bonanzasolar@blm.gov. Contact us at this email address to have your name added to our mailing list. Individuals in the United States who are deaf, deafblind, hard of hearing, or have a speech disability may dial 711 (TTY, TDD, or TeleBraille) to access telecommunications relay services for contacting Katy Paiva. Individuals outside the United States should use the relay services offered within their country to make international calls to the point-of-contact in the United States.

SUPPLEMENTARY INFORMATION: This document provides notice that the BLM has prepared a Draft RMP Amendment/EIS and announces the opening of the comment period on the Draft RMP Amendment/EIS. The Draft RMP amendments evaluated changes to the existing 1998 Las Vegas RMP to modify an existing utility corridor and reclassify the visual resources management class in the project area.

The project area is in Clark County, Nevada, and encompasses approximately 5,131 acres of public lands with a gen-tie transmission going into Nye County for 10 acres.

Purpose and Need

The BLM's purpose is to respond under title V of FLPMA (43 U.S.C. 1761) to an application submitted by Bonanza Solar, LLC on December 1, 2020, to construct, operate, maintain, and eventually decommission a solar photovoltaic electric generating facility and associated facilities with a capacity of 300 megawatts.

The need for this action is established by BLM's responsibilities under FLPMA and its ROW regulations to consider the application. The BLM is required by FLPMA Section 103(c) to manage public lands for multiple uses that consider the long-term needs of future generations for renewable and non-renewable resources. The Secretary of the Interior authorized the BLM to grant ROWs on public lands for systems of generation, transmission, and distribution of electric energy (43 U.S.C. 1761(a)(4)).

Alternatives Including the Preferred Alternative

The BLM analyzed five alternatives in detail, including the no action alternative. Under the no action alternative, the project would not be authorized or constructed. The BLM evaluated four action alternatives, including the Proposed Action, a Resource Integration Alternative (Alternative 1), a BLM Preferred Alternative (Alternative 2), and a Modified Layout Alternative (Alternative 3), with variations on management objectives for vegetation cover and grading limits, measures to maintain the area for Mojave desert tortoise connectivity, and the source of the water for construction, operations and maintenance. The BLM further considered six additional alternatives but dismissed these from detailed analysis as explained in the Draft RMP Amendment/EIS.

The BLM has identified Alternative 2 as the BLM Preferred Alternative. Alternative 2 was found to best meet the planning guidance and, therefore, selected as the preferred alternative because it provides the best opportunity for solar energy development while allowing for the maintenance of habitat for Mojave desert tortoise connectivity.

Mitigation

The BLM Preferred Alternative includes measures to maintain and/or improve connectivity along U.S. Highway 95 for connectivity for the Mojave desert tortoise through the requirement of minimum vegetation retention standards and grading limits. The BLM Preferred Alternative also includes anti-perching/nesting deterrents to minimize predation by ravens. Bonanza Solar, LLC will also be required to pay remuneration fees for impacts to Mojave desert tortoise habitats.

Area of Critical Environmental Concern

On September 22, 2020, the BLM received a nomination from the public to designate an Area of Critical Environmental Concern (ACEC) consisting of approximately 58,000 acres in the Cactus Springs area. The nominated ACEC overlaps the entire project area. In this Draft RMP Amendment/EIS, the BLM is not considering the ACEC nomination because designation of ACECs is not within the scope of the current planning process. Consistent with policy (HQ IM 2023-013), the BLM has prepared a relevance and importance values report for the nominated ACEC area and determined that special management attention is needed. The BLM has provided temporary management and implementation actions to protect values in the area, which have been incorporated into the BLM Preferred Alternative.

Schedule for the Decision-Making Process

The BLM will provide additional opportunities for public participation consistent with the NEPA and land use planning processes, including a 30-day public protest period and a 60-day Governor's consistency review of the Proposed RMP Amendment. The Proposed RMP Amendment/Final EIS is anticipated to be available for public protest in April 2025 with a Record of Decision in August 2025.

To afford the BLM the opportunity to consider comments in the Draft RMP Amendment/EIS, please ensure your comments are received prior to the close of the 90-day comment period or 15 days after the last public meeting, whichever is later.

The BLM has utilized and coordinated the NEPA and land use planning processes for this planning effort to help support compliance with applicable procedural requirements under the Endangered Species Act (16 U.S.C. 1536) and Section 106 of the National Historic Preservation Act (NHPA) (54 U.S.C. 306108). The BLM has elected to comply with NHPA Section 106 requirements through the NEPA process (36 CFR 800.8(c)). The information about historic and cultural resources and threatened and endangered species within the area potentially affected by the proposed plan has assisted the BLM in identifying and evaluating impacts to such resources.

The BLM will continue to consult with Indian Tribes on a government-to-government basis in accordance with Executive Order 13175, BLM MS 1780, and other Departmental policies. Tribal concerns, including potential impacts to cultural resources, will be given due consideration. Additional government-to-government meetings will occur during this review period.

Before including your address, phone number, email address, or other personal identifying information in your comment, you should be aware that your entire comment—including your personal identifying information—may be made publicly available at any time. While you can ask us in your comment to withhold your personal identifying information from public review, we cannot guarantee that we will be able to do so.

(Authority: 40 CFR 1501.7, 43 CFR 1610.2, and 43 CFR 2800)

Jon K. Raby,
State Director.

[FR Doc. 2024-19552 Filed 9-5-24; 8:45 am]

BILLING CODE 4331-21-P